DEPARTMENT OF THE INTERIOR

Fish and Wildlife Service

Supplement to the Draft Comprehensive Conservation Plan and Environmental Impact Statement for the Upper Mississippi River National Wildlife and Fish Refuge, Illinois, Iowa, Minnesota, and Wisconsin; Extension of Comment Period

AGENCY: Fish and Wildlife Service, Interior.

ACTION: Notice of extension of comment period.

SUMMARY: The Supplement to the Draft Comprehensive Conservation Plan (CCP) and Environmental Impact Statement (EIS) was released to the public on December 5, 2005, (70 FR 72462, December 5, 2005) for a 60-day review and comment period ending February 3, 2006. Due to public and elected official requests, the comment period for the Supplement is being extended 30 days.

DATES: Comments on the Supplement to the Draft CCP/EIS received by March 6, 2006, will be considered in the preparation of the Final CCP/EIS.

ADDRESSES: All comments should be addressed to Upper Mississippi National Wildlife and Fish Refuge, Attention: CCP Supplement Comment, 51 East 4th Street, Room 101, Winona, Minnesota 55987, or direct e-mail to r3planning@fws.gov. Comments may also be submitted through the Service's regional Web site at: http://www.fws.gov/midwest/planning/uppermiss/index.html.

FOR FURTHER INFORMATION CONTACT: Don Hultman, at (507) 452-4232.

SUPPLEMENTARY INFORMATION: The Upper Mississippi River National Wildlife and Fish Refuge encompasses 240,000 acres along 261 miles of Mississippi River floodplain in Minnesota, Wisconsin, Iowa, and Illinois. The Refuge was established by Congress in 1924 to provide a refuge and breeding ground for migratory birds, fish, other wildlife, and plants.

The U.S. Fish and Wildlife Service released the Supplement to the Draft CCP/EIS for the refuge on December 5, 2005, for a 60-day comment period. The Supplement to the Draft CCP/EIS was prepared pursuant to the National Wildlife Refuge System Administration Act of 1966, as amended by the National Wildlife Refuge System Improvement Act of 1997, and the National Environmental Policy Act of 1969. Goals and objectives in the CCP describe how the agency intends to manage the refuge over the next 15 years.

Upon release of the Supplement, citizen groups and elected officials requested an extension of the comment period. They cited the importance of the plan to the citizens affected, the commitments of the holidays, and the need for the public to be able to incorporate in their comments what they hear and learn at nine public meetings scheduled for January 2006. Given the above, an extension of 30 days will help ensure full public review and comment.

Dated: January 4, 2006.
Charles M. Wooley,
Acting Regional Director, U.S. Fish and Wildlife Service, Fort Snelling, Minnesota.

[FR Doc. E6-378 Filed 1-13-06; 8:45 am]

BILLING CODE 4310-55-P